DEPARTMENT OF THE INTERIOR

National Park Service

National Register of Historic Places; Notification of Pending Nominations and Related Actions

Nominations for the following properties being considered for listing or related actions in the National Register were received by the National Park Service before March 3, 2007.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by April 3, 2007.

J. Paul Loether,
Chief, National Register of Historic Places/National Historic Landmarks Program.

ARIZONA

Coconino County

Grand Canyon Airport Historic District, Approx. 2.6 E of jct. of U.S. 180 and Forest Rd. 305, Tusayan, 07000278

Maricopa County

Margarita Place Historic District, Bounded by Thomas Rd., Windsor Ave., 15th and 16th Ave., Phoenix, 07000279

FLORIDA

Volusia County

St. Rita's Colored Catholic Mission, 314 Duss St., New Smyna Beach, 07000280

INDIANA

Monroe County

Hinkle Garton Farmstead, 2920 E. 10th St., Bloomington, 07000282

IOWA

Pottawattamie County

Lincoln—Fairview Historic District, Roughly bounded by W. Kanesville Blvd., Oakland Ave., Fairview Cemetery, and N. 1st St., Council Bluffs, 07000281

KENTUCKY

Butler County

Carson—Annis Ferry Farm, 1086 Annis Ferry Rd., Morgantown, 07000286

Franklin County

Weehawken, 1 Weehawken Ln., Jett, 07000283

Garrard County

Paint Lick School, 10973 Richmond Rd., Paint Lick, 07000284

Madison County

Union Bus Station, 127 S. Third St., Richmond, 07000285

Woodford County

Cleveland House, 140 Park St., Versailles, 07000287

MASSACHUSETTS

Barnstable County

Paul Palmer (Shipwreck and Remains), Address Restricted, Provincetown, 07000288

NEW YORK

Albany County

Van Ostrande—Radliff House, 48 Hudson Ave., Albany, 07000291

Onondaga County

Martisco Station, Martisco Rd., N of Lyons Rd., Martisco, 07000292

Snow, C.W., & Company Warehouse, 230 W. Willow St., Syracuse, 07000290

Stone Aravia School, 6453 NY 31, Cicero, 07000289

NORTH CAROLINA

Brunswick County

Oak Island Lighthouse, 300A Caswell Beach Rd., N of NC 133, Caswell Beach, 07000293

Cumberland County

Haymount Historic District (Boundary Increase), (Fayetteville MRA) 100-200 blks Bradford Ave., 801 Hay St. 801, 802, 806 Arsenal Ave., Fayetteville, 07000296

Guilford County

West High Street Historic District, 407, 409, 415, 501, 503 and 507 W. High St., 106, 107 and 110 Oak St., High Point, 07000295

Robeson County

Centenary Methodist Church, 2585 NC 130 E, jct. with NC 2462, Rowland, 07000294

OHIO

Ashland County

Bull, T.J. and Sarah, House, 109 S. Market St., Loudonville, 07000302

Hamilton County

Clifton Methodist Episcopal Church, 3418 Clifton Ave., Cincinnati, 07000297

Lawrence County

Olive Furnace, OH 93 at TR 239 (Olive Branch Rd.), Pedro, 07000299

Marion County

Marion County Telephone Company Building, 197 S. Main St., Marion, 07000298

OREGON

Clatsop County

USS LCI-713 (Landing Craft), 100 39th St. (Pier 39), Astoria, 07000300

RHODE ISLAND

Providence County

Rosedale Apartments, 1180 Narragansett Blvd., Cranston, 07000301

VIRGINIA

Smyth County

Hungry Mother State Park Historic District, 2854 Park Blvd., Marion, 07000303

WASHINGTON

King County

MV Westward (Wooden Motor Vessel), The Center for Wooden Boats, 1010 Valley St., Seattle, 07000304

Sigma Kappa Mu Chapter House, 4510 22nd Ave. NE, Seattle, 07000305

[FR Doc. E7-4875 Filed 3-16-07; 8:45 am]

BILLING CODE 4312-51-P